DEPARTMENT OF HEALTH AND HUMAN SERVICES

Health Resources and Services Administration

[CFDA Number 93.224, HRSA-05-024]

Amendment to a Notice of Availability of Funds—Fiscal Year 2005 Competitive Application Cycle for Service Area Competition for the Consolidated Health Center Program (CHCP)

AGENCY: Health Resources and Services Administration, HHS.

ACTION: Amendment to a Notice of Availability of Funds.

SUMMARY: A Notice of Availability of Funds announced in the HRSA Preview, “Primary Health Care Programs: Community and Migrant Health Centers HRSA-05-024,” was published in the Federal Register on July 12, 2004 (Volume 69, Number 132), FR Doc. 04-15605. On page 41814, under announcement HRSA-05-024, add the following: Jacksonville, FL, December 31, 2004.*

*The due date for Jacksonville, Florida service area is October 15, 2004. There are no other changes.

FOR FURTHER INFORMATION CONTACT: Darryl Burnett, Health Resources and Services Administration/Bureau of Primary Health Care; Dburnett@HRSA.GOV

SUPPLEMENTARY INFORMATION: Program Information Notice 2004-22, “Service Area Competition (including all Competing Continuations) Funding for the Consolidated Health Center Program,” and application guidance is available at the Bureau of Primary Health Care web page: http://www.bphc.hrsa.gov/pinspals/.

Dated: August 10, 2004.
Elizabeth M. Duke,
Administrator.

[FR Doc. 04-18719 Filed 8-16-04; 8:45 am]

BILLING CODE 4165-15-P